DEPARTMENT OF VETERANS AFFAIRS

[OMB Control No. 2900-0049]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 8, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0049.”

Send comments and recommendations concerning any aspect of the information collection to VA's OMB Desk Officer, OMB Human Resources and Housing Branch, New Executive Office Building, Room 10235, Washington, DC 20503 (202) 395-7316. Please refer to “OMB Control No. 2900-0049” in any correspondence.

SUPPLEMENTARY INFORMATION:

Title:

a. Request for Approval of School Attendance, VA Form 21-674 and 21-674c.

b. School Attendance Report, VA Form 21-674b.

OMB Control Number: 2900-0049.

Type of Review: Extension of a currently approved collection.

Abstract: VA Form 21-674 and 21-674c are used to collect the necessary information to determine entitlement to compensation and pension benefits for a child between the ages of 18 and 23 attending school. VA Form 21-674b is used to confirm the school attendance of a child for whom VA compensation or pension benefits are being received.

An agency may not conduct or sponsor, and a person is not required to respond to a collection of information unless it displays a currently valid OMB control number. The Federal Register Notice with a 60-day comment period soliciting comments on this collection of information was published on April 15, 2002, at pages 18305-18306.

Affected Public: Individuals or households.

Estimated Annual Burden: 14,792 hours.

Estimated Average Burden Per Respondent: 15 minutes.

Frequency of Response: On occasion.

Estimated Number of Respondents: 177,500.

Dated: June 26, 2002.
By direction of the Secretary.
Genie McCully,
Acting Director, Information Management Service.

[FR Doc. 02-17127 Filed 7-8-02; 8:45 am]

BILLING CODE 8320-01-P